NUCLEAR REGULATORY COMMISSION

[Docket No. 50-271; NRC-2013-0259]

License Amendment Application for Vermont Yankee Nuclear Power Station

AGENCY: Nuclear Regulatory Commission.

ACTION: License amendment application; withdrawal.

SUMMARY: The U.S. Nuclear Regulatory Commission (NRC) has granted the request of Entergy Nuclear Operations, Inc. (the licensee) to withdraw its application dated May 14, 2013, (ADAMS Accession No. ML13137A158), for a proposed amendment to Facility Operating License No. DPR-28 for the Vermont Yankee Nuclear Power Station, located in Windham County, VT. The proposed amendment would have revised the Technical Specifications (TSs) to reduce reactor pressure associated with the fuel cladding integrity safety limits (SLs).

ADDRESSES: Please refer to Docket ID NRC-2013-0259 when contacting the NRC about the availability of information regarding this document. You may access publicly-available information related to this action by the following methods:

• Federal Rulemaking Web site: Go to http://www.regulations.gov and search for Docket ID NRC-2013-0259. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Douglas Pickett, Office of Nuclear Reactor Regulation, U.S. Nuclear Regulatory Commission, Washington, DC 20555-0001; telephone: 301-415-1364; email: Dougas.Pickett@nrc.gov.

SUPPLEMENTARY INFORMATION: The NRC has granted the request of Entergy Nuclear Operations, Inc. (the licensee) to withdraw its May 14, 2013, application (ADAMS Accession No. ML13137A158) for proposed amendment to Facility Operating License No. DPR-28 for the Vermont Yankee Nuclear Power Station, located in Windham County, VT.

The proposed amendment would have revised the Technical Specifications (TSs) to reduce reactor pressure associated with the fuel cladding integrity safety limits (SLs) from 800 pounds per square inch, absolute (psia) to 700 psia in SLs 1.1.A and 1.1.B. The proposed change is intended to address the potential to exceed the low pressure TS SL associated with a pressure regulator failure-maximum demand open transient as reported by General Electric Nuclear Energy in its Part 21 Communication, “Potential to Exceed Low Pressure Technical Specification Safety Limit,” SC05-03, dated March 29, 2005.

The Commission had previously issued a Notice of Consideration of Issuance of Amendment published in the Federal Register on August 6, 2013 (78 FR 47789). However, by letter dated September 26, 2013, the licensee withdrew the proposed change.

For further details with respect to this action, see the application for amendment dated May 14, 2013, and the licensee's letter dated September 26, 2013, which withdrew the application for license amendment (ADAMS Accession No. ML13274A240).

Dated at Rockville, Maryland, this 21st day of November, 2013.
For the Nuclear Regulatory Commission.
Douglas V. Pickett,
Senior Project Manager, Plant Licensing Branch I-1, Division of Operating Reactor Licensing, Office of Nuclear Reactor Regulation.

[FR Doc. 2013-28700 Filed 11-27-13; 8:45 am]

BILLING CODE 7590-01-P